COMMITTEE FOR PURCHASE FROM PEOPLE WHO ARE BLIND OR SEVERELY DISABLED

Procurement List; Proposed Additions and Deletions

AGENCY: Committee for Purchase From People Who Are Blind or Severely Disabled.

ACTION: Proposed additions to and deletions from the procurement list.

SUMMARY: The Committee is proposing to add products to the Procurement List that will be furnished by nonprofit agencies employing persons who are blind or have other severe disabilities, and deletes services previously furnished by such agencies.

DATES: Comments Must Be Received On Or Before: 11/7/2011.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Barry S. Lineback, Telephone: (703) 603-7740, Fax: (703) 603-0655, or e-mail CMTEFedReg@AbilityOne.gov.

SUPPLEMENTARY INFORMATION: This notice is published pursuant to 41 U.S.C 8503(a)(2) and 41 CFR 51-2.3. Its purpose is to provide interested persons an opportunity to submit comments on the proposed actions.

Additions

If the Committee approves the proposed additions, the entities of the Federal Government identified in this notice will be required to procure the products listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products to the Government.

2. If approved, the action will result in authorizing small entities to furnish the products to the Government.

3. There are no known regulatory alternatives which would accomplish the objectives of the Javits-Wagner-O'Day Act (41 U.S.C 8501-8506) in connection with the products proposed for addition to the Procurement List.

Comments on this certification are invited. Commenters should identify the statement(s) underlying the certification on which they are providing additional information.

End of Certification

The following products are proposed for addition to the Procurement List for production by the nonprofit agencies listed:

Products

Navy Retired Lapel Pin

NSN: 8455-01-591-5248—Lapel Pin, Navy Retired, Dual Flag

NPA: Industries for the Blind, Inc., West Allis, WI

Contracting Activity: Defense Logistics Agency, DLA Troop Support, Philadelphia, PA

Coverage: C-List for 100% of the requirement of the Department of the Navy, as aggregated by the Defense Logistics Agency Troop Support, Philadelphia, PA.

Gloves, Surgical

NSN: 6515-00-NIB-0627—Gloves, Surgical, Powder-free, Biogel, PI Indicator, Underglove, Blue, Size 5.5″

NSN: 6515-00-NIB-0628—Gloves, Surgical, Powder-free, Biogel, PI Indicator, Underglove, Blue, Size 6″

NSN: 6515-00-NIB-0629—Gloves, Surgical, Powder-free, Biogel, PI Indicator, Underglove, Blue, Size 6.5″

NSN: 6515-00-NIB-0630—Gloves, Surgical, Powder-free, Biogel, PI Indicator, Underglove, Blue, Size 7″

NSN: 6515-00-NIB-0631—Gloves, Surgical, Powder-free, Biogel, PI Indicator, Underglove, Blue, Size 7.5″

NSN: 6515-00-NIB-0632—Gloves, Surgical, Powder-free, Biogel, PI Indicator, Underglove, Blue, Size 8″

NSN: 6515-00-NIB-0633—Gloves, Surgical, Powder-free, Biogel, PI Indicator, Underglove, Blue, Size 8″

NSN: 6515-00-NIB-0634—Gloves, Surgical, Powder-free, Biogel, PI Indicator, Underglove, Blue, Size 9″

NSN: 6515-00-NIB-0635—Gloves, Surgical, Powder-free, Biogel, PI Ultratouch G, Straw colored, Size 5.5″

NSN: 6515-00-NIB-0636—Gloves, Surgical, Powder-free, Biogel, PI Ultratouch G, Straw colored, Size 6″

NSN: 6515-00-NIB-0637—Gloves, Surgical, Powder-free, Biogel, PI Ultratouch G, Straw colored, Size 6.5″

NSN: 6515-00-NIB-0638—Gloves, Surgical, Powder-free, Biogel, PI Ultratouch G, Straw colored, Size 7″

NSN: 6515-00-NIB-0639—Gloves, Surgical, Powder-free, Biogel, PI Ultratouch G, Straw colored, Size 7.5″

NSN: 6515-00-NIB-0640—Gloves, Surgical, Powder-free, Biogel, PI Ultratouch G, Straw colored, Size 8″

NSN: 6515-00-NIB-0641—Gloves, Surgical, Powder-free, Biogel, PI Ultratouch G, Straw colored, Size 8.5″

NSN: 6515-00-NIB-0642—Gloves, Surgical, Powder-free, Biogel, PI Ultratouch G, Straw colored, Size 9″

NSN: 6515-00-NIB-0643—Gloves, Surgical, Powder-free, Biogel, PI Ultratouch M, Straw colored, Size 5.5″

NSN: 6515-00-NIB-0644—Gloves, Surgical, Powder-free, Biogel, PI Ultratouch M, Straw colored, Size 6″

NSN: 6515-00-NIB-0645—Gloves, Surgical, Powder-free, Biogel, PI Ultratouch M, Straw colored, Size 6.5″

NSN: 6515-00-NIB-0646—Gloves, Surgical, Powder-free, Biogel, PI Ultratouch M, Straw colored, Size 7″

NSN: 6515-00-NIB-0647—Gloves, Surgical, Powder-free, Biogel, PI Ultratouch M, Straw colored, Size 7.5″

NSN: 6515-00-NIB-0648—Gloves, Surgical, Powder-free, Biogel, PI Ultratouch M, Straw colored, Size 8″

NSN: 6515-00-NIB-0649—Gloves, Surgical, Powder-free, Biogel, PI Ultratouch M, Straw colored, Size 8.5″

NSN: 6515-00-NIB-0650—Gloves, Surgical, Powder-free, Biogel, PI Ultratouch M, Straw colored, Size 9″

NSN: 6515-00-NIB-0651—Gloves, Surgical, Powder-free, Biogel, Neoderm, Brown, Size 5.5″

NSN: 6515-00-NIB-0652—Gloves, Surgical, Powder-free, Biogel, Neoderm, Brown, Size 6″

NSN: 6515-00-NIB-0653—Gloves, Surgical, Powder-free, Biogel, Neoderm, Brown, Size 6.5″

NSN: 6515-00-NIB-0654—Gloves, Surgical, Powder-free, Biogel, Neoderm, Brown, Size 7″

NSN: 6515-00-NIB-0655—Gloves, Surgical, Powder-free, Biogel, Neoderm, Brown, Size 7.5″

NSN: 6515-00-NIB-0656—Gloves, Surgical, Powder-free, Biogel, Neoderm, Brown, Size 8″

NSN: 6515-00-NIB-0657—Gloves, Surgical, Powder-free, Biogel, Neoderm, Brown, Size 8.5″

NSN: 6515-00-NIB-0658—Gloves, Surgical, Powder-free, Biogel, Neoderm, Brown, Size 9″

NSN: 6515-00-NIB-0659—Gloves, Surgical, Powder-free, Derma Prene, Isotouch Ortho, Green, Size 6″

NSN: 6515-00-NIB-0660—Gloves, Surgical, Powder-free, Derma Prene, Isotouch Ortho, Green, Size 6.5″

NSN: 6515-00-NIB-0661—Gloves, Surgical, Powder-free, Derma Prene, Isotouch Ortho, Green, Size 7″

NSN: 6515-00-NIB-0662—Gloves, Surgical, Powder-free, Derma Prene, Isotouch Ortho, Green, Size 7.5″

NSN: 6515-00-NIB-0663—Gloves, Surgical, Powder-free, Derma Prene, Isotouch Ortho, Green, Size 8″

NSN: 6515-00-NIB-0664—Gloves, Surgical, Powder-free, Derma Prene, Isotouch Ortho, Green, Size 8.5″

NSN: 6515-00-NIB-0665—Gloves, Surgical, Powder-free, Derma Prene, Isotouch Ortho, Green, Size 9″

NSN: 6515-00-NIB-0666—Gloves, Surgical, Powder-free, Derma Prene, Isotouch Micro, Green, Size 5.5″

NSN: 6515-00-NIB-0667—Gloves, Surgical, Powder-free, Derma Prene, Isotouch Micro, Green, Size 6″

NSN: 6515-00-NIB-0668—Gloves, Surgical, Powder-free, Derma Prene, Isotouch Micro, Green, Size 6.5″

NSN: 6515-00-NIB-0669—Gloves, Surgical, Powder-free, Derma Prene, Isotouch Micro, Green, Size 7″

NSN: 6515-00-NIB-0670—Gloves, Surgical, Powder-free, Derma Prene, Isotouch Micro, Green, Size 7.5″

NSN: 6515-00-NIB-0671—Gloves, Surgical, Powder-free, Derma Prene, Isotouch Micro, Green, Size 8″

NSN: 6515-00-NIB-0672—Gloves, Surgical, Powder-free, Derma Prene, Isotouch Micro, Green, Size 8.5″

NSN: 6515-00-NIB-0673—Gloves, Surgical, Powder-free, Derma Prene, Isotouch Micro, Green, Size 9″

NSN: 6515-00-NIB-0674—Gloves, Surgical, Powder-free, Derma Prene, Isotouch Hydrasoft, Green, Size 5.5″

NSN: 6515-00-NIB-0675—Gloves, Surgical, Powder-free, Derma Prene, Isotouch Hydrasoft, Green, Size 6″

NSN: 6515-00-NIB-0676—Gloves, Surgical, Powder-free, Derma Prene, Isotouch Hydrasoft, Green, Size 6.5″

NSN: 6515-00-NIB-0677—Gloves, Surgical, Powder-free, Derma Prene, Isotouch Hydrasoft, Green, Size 7″

NSN: 6515-00-NIB-0678—Gloves, Surgical, Powder-free, Derma Prene, Isotouch Hydrasoft, Green, Size 7.5″

NSN: 6515-00-NIB-0679—Gloves, Surgical, Powder-free, Derma Prene, Isotouch Hydrasoft, Green, Size 8″

NSN: 6515-00-NIB-0680—Gloves, Surgical, Powder-free, Derma Prene, Isotouch Hydrasoft, Green, Size 8.5″

NSN: 6515-00-NIB-0681—Gloves, Surgical, Powder-free, Derma Prene, Isotouch Hydrasoft, Green, Size 9″

NSN: 6515-00-NIB-0682—Gloves, Surgical, Powder-free, Derma Prene, Isotouch Micro, White, Size 5.5″

NSN: 6515-00-NIB-0683—Gloves, Surgical, Powder-free, Derma Prene, Isotouch Micro, White, Size 6″

NSN: 6515-00-NIB-0684—Gloves, Surgical, Powder-free, Derma Prene, Isotouch Micro, White, Size 6.5″

NSN: 6515-00-NIB-0685—Gloves, Surgical, Powder-free, Derma Prene, Isotouch Micro, White, Size 7″

NSN: 6515-00-NIB-0686—Gloves, Surgical, Powder-free, Derma Prene, Isotouch Micro, White, Size 7.5″

NSN: 6515-00-NIB-0687—Gloves, Surgical, Powder-free, Derma Prene, Isotouch Micro, White, Size 8″

NSN: 6515-00-NIB-0688—Gloves, Surgical, Powder-free, Derma Prene, Isotouch Micro, White, Size 8.5″

NSN: 6515-00-NIB-0689—Gloves, Surgical, Powder-free, Derma Prene, Isotouch Micro, White, Size 9″

NSN: 6515-00-NIB-0690—Gloves, Surgical, Powder-free, Derma Prene, Isotouch White, White, Size 5.5″

NSN: 6515-00-NIB-0691—Gloves, Surgical, Powder-free, Derma Prene, Isotouch White, White, Size 6″

NSN: 6515-00-NIB-0692—Gloves, Surgical, Powder-free, Derma Prene, Isotouch White, White, Size 6.5″

NSN: 6515-00-NIB-0693—Gloves, Surgical, Powder-free, Derma Prene, Isotouch White, White, Size 7″

NSN: 6515-00-NIB-0694—Gloves, Surgical, Powder-free, Derma Prene, Isotouch White, White, Size 7.5″

NSN: 6515-00-NIB-0695—Gloves, Surgical, Powder-free, Derma Prene, Isotouch White, White, Size 8″

NSN: 6515-00-NIB-0696—Gloves, Surgical, Powder-free, Derma Prene, Isotouch White, White, Size 8.5″

NSN: 6515-00-NIB-0697—Gloves, Surgical, Powder-free, Derma Prene, Isotouch White, White, Size 9″

NSN: 6515-00-NIB-0698—Gloves, Surgical, Powder-free, Neolon 2G, Brown, Size 5.5″

NSN: 6515-00-NIB-0699—Gloves, Surgical, Powder-free, Neolon 2G, Brown, Size 6″

NSN: 6515-00-NIB-0700—Gloves, Surgical, Powder-free, Neolon 2G, Brown, Size 6.5″

NSN: 6515-00-NIB-0701—Gloves, Surgical, Powder-free, Neolon 2G, Brown, Size 7″

NSN: 6515-00-NIB-0702—Gloves, Surgical, Powder-free, Neolon 2G, Brown, Size 7.5″

NSN: 6515-00-NIB-0703—Gloves, Surgical, Powder-free, Neolon 2G, Brown, Size 8″

NSN: 6515-00-NIB-0704—Gloves, Surgical, Powder-free, Neolon 2G, Brown, Size 8.5″

NSN: 6515-00-NIB-0705—Gloves, Surgical, Powder-free, Neolon 2G, Brown, Size 9″

NSN: 6515-00-NIB-0706—Gloves, Surgical, Powder free, Sensicare SLT, cream-colored, Size 5.5″

NSN: 6515-00-NIB-0707—Gloves, Surgical, Powder free, Sensicare SLT, cream-colored, Size 6″

NSN: 6515-00-NIB-0708—Gloves, Surgical, Powder free, Sensicare SLT, cream-colored, Size 6.5″

NSN: 6515-00-NIB-0709—Gloves, Surgical, Powder free, Sensicare SLT, cream-colored, Size 7″

NSN: 6515-00-NIB-0710—Gloves, Surgical, Powder free, Sensicare SLT, cream-colored, Size 7.5″

NSN: 6515-00-NIB-0711—Gloves, Surgical, Powder free, Sensicare SLT, cream-colored, Size 8″

NSN: 6515-00-NIB-0712—Gloves, Surgical, Powder free, Sensicare SLT, cream-colored, Size 8.5″

NSN: 6515-00-NIB-0713—Gloves, Surgical, Powder free, Sensicare SLT, cream-colored, Size 9″

NSN: 6515-00-NIB-0773—Gloves, Surgical, Powder free, Sensicare Ortho, White, Size 5.5″

NSN: 6515-00-NIB-0714—Gloves, Surgical, Powder free, Sensicare Ortho, White, Size 6″

NSN: 6515-00-NIB-0715—Gloves, Surgical, Powder free, Sensicare Ortho, White, Size 6.5″

NSN: 6515-00-NIB-0716—Gloves, Surgical, Powder free, Sensicare Ortho, White, Size 7″

NSN: 6515-00-NIB-0717—Gloves, Surgical, Powder free, Sensicare Ortho, White, Size 7.5″

NSN: 6515-00-NIB-0718—Gloves, Surgical, Powder free, Sensicare Ortho, White, Size 8.0″

NSN: 6515-00-NIB-0719—Gloves, Surgical, Powder free, Sensicare Ortho, White, Size 8.5″

NSN: 6515-00-NIB-0720—Gloves, Surgical, Powder free, Sensicare Ortho, White, Size 9″

NSN: 6515-00-NIB-0721—Gloves, Surgical, Powder-free, Esteem Micro, Light Blue, Size 5.5″

NSN: 6515-00-NIB-0722—Gloves, Surgical, Powder-free, Esteem Micro, Light Blue, Size 6″

NSN: 6515-00-NIB-0723—Gloves, Surgical, Powder-free, Esteem Micro, Light Blue, Size 6.5″

NSN: 6515-00-NIB-0724—Gloves, Surgical, Powder-free, Esteem Micro, Light Blue, Size 7″

NSN: 6515-00-NIB-0725—Gloves, Surgical, Powder-free, Esteem Micro, Light Blue, Size 7.5″

NSN: 6515-00-NIB-0774—Gloves, Surgical, Powder-free, Esteem Micro, Light Blue, Size 8″

NSN: 6515-00-NIB-0726—Gloves, Surgical, Powder-free, Esteem Micro, Light Blue, Size 8.5″

NSN: 6515-00-NIB-0727—Gloves, Surgical, Powder-free, Esteem Micro, Light Blue, Size 9″

NSN: 6515-00-NIB-0728—Gloves, Surgical, Powder-free, Esteem Ortho, Green, Size 6.0″

NSN: 6515-00-NIB-0729—Gloves, Surgical, Powder-free, Esteem Ortho, Green, Size 6.5″

NSN: 6515-00-NIB-0730—Gloves, Surgical, Powder-free, Esteem Ortho, Green, Size 7″

NSN: 6515-00-NIB-0731—Gloves, Surgical, Powder-free, Esteem Ortho, Green, Size 7.5″

NSN: 6515-00-NIB-0732—Gloves, Surgical, Powder-free, Esteem Ortho, Green, Size 8″

NSN: 6515-00-NIB-0733—Gloves, Surgical, Powder-free, Esteem Ortho, Green, Size 8.5″

NSN: 6515-00-NIB-0734—Gloves, Surgical, Powder-free, Esteem Ortho, Green, Size 9″

NSN: 6515-00-NIB-0735—Gloves, Surgical, Powder-free, Biogel, Orthopro Indicator, Underglove, Green, Size 6″

NSN: 6515-00-NIB-0736—Gloves, Surgical, Powder-free, Biogel, Orthopro Indicator, Underglove, Green, Size 6.5″

NSN: 6515-00-NIB-0737—Gloves, Surgical, Powder-free, Biogel, Orthopro Indicator, Underglove, Green, Size 7″

NSN: 6515-00-NIB-0738—Gloves, Surgical, Powder-free, Biogel, Orthopro Indicator, Underglove, Green, Size 7.5″

NSN: 6515-00-NIB-0739—Gloves, Surgical, Powder-free, Biogel, Orthopro Indicator, Underglove, Green, Size 8″

NSN: 6515-00-NIB-0740—Gloves, Surgical, Powder-free, Biogel, Orthopro Indicator, Underglove, Green, Size 8.5″

NSN: 6515-00-NIB-0741—Gloves, Surgical, Powder-free, Biogel, Orthopro Indicator, Underglove, Green, Size 9″

NSN: 6515-00-NIB-0742—Gloves, Surgical, Powder-free, Biogel, Orthopro, Overglove, Straw colored, Size 6″

NSN: 6515-00-NIB-0743—Gloves, Surgical, Powder-free, Biogel, Orthopro, Overglove, Straw colored, Size 6.5″

NSN: 6515-00-NIB-0744—Gloves, Surgical, Powder-free, Biogel, Orthopro, Overglove, Straw colored, Size 7″

NSN: 6515-00-NIB-0745—Gloves, Surgical, Powder-free, Biogel, Orthopro, Overglove, Straw colored, Size 7.5″

NSN: 6515-00-NIB-0746—Gloves, Surgical, Powder-free, Biogel, Orthopro, Overglove, Straw colored, Size 8″

NSN: 6515-00-NIB-0747—Gloves, Surgical, Powder-free, Biogel, Orthopro, Overglove, Straw colored, Size 8.5″

NSN: 6515-00-NIB-0748—Gloves, Surgical, Powder-free, Biogel, Orthopro, Overglove, Straw colored, Size 9″

NSN: 6515-00-NIB-0749—Gloves, Surgical, Powder-free, Triumph LT, White, Size 5.5″

NSN: 6515-00-NIB-0750—Gloves, Surgical, Powder-free, Triumph LT, White, Size 6″

NSN: 6515-00-NIB-0751—Gloves, Surgical, Powder-free, Triumph LT, White, Size 6.5″

NSN: 6515-00-NIB-0752—Gloves, Surgical, Powder-free, Triumph LT, White, Size 7″

NSN: 6515-00-NIB-0753—Gloves, Surgical, Powder-free, Triumph LT, White, Size 7.5″

NSN: 6515-00-NIB-0754—Gloves, Surgical, Powder-free, Triumph LT, White, Size 8″

NSN: 6515-00-NIB-0755—Gloves, Surgical, Powder-free, Triumph LT, White, Size 8.5″

NSN: 6515-00-NIB-0756—Gloves, Surgical, Powder-free, Triumph LT, White, Size 9″

NSN: 6515-00-NIB-0757—Gloves, Surgical, Powder-free, Eudermic, Brown, Size 5.5″

NSN: 6515-00-NIB-0758—Gloves, Surgical, Powder-free, Eudermic, Brown, Size 6″

NSN: 6515-00-NIB-0759—Gloves, Surgical, Powder-free, Eudermic, Brown, Size 6.5″

NSN: 6515-00-NIB-0760—Gloves, Surgical, Powder-free, Eudermic, Brown, Size 7″

NSN: 6515-00-NIB-0761—Gloves, Surgical, Powder-free, Eudermic, Brown, Size 7.5″

NSN: 6515-00-NIB-0762—Gloves, Surgical, Powder-free, Eudermic, Brown, Size 8″

NSN: 6515-00-NIB-0763—Gloves, Surgical, Powder-free, Eudermic, Brown, Size 8.5″

NSN: 6515-00-NIB-0764—Gloves, Surgical, Powder-free, Eudermic, Brown, Size 9″

NSN: 6515-00-NIB-0765—Gloves, Surgical, Powder-free, OR Classic, White, Size 5.5″

NSN: 6515-00-NIB-0766—Gloves, Surgical, Powder-free, OR Classic, White, Size 6″

NSN: 6515-00-NIB-0767—Gloves, Surgical, Powder-free, OR Classic, White, Size 6.5″

NSN: 6515-00-NIB-0768—Gloves, Surgical, Powder-free, OR Classic, White, Size 7″

NSN: 6515-00-NIB-0769—Gloves, Surgical, Powder-free, OR Classic, White, Size 7.5″

NSN: 6515-00-NIB-0770—Gloves, Surgical, Powder-free, OR Classic, White, Size 8″

NSN: 6515-00-NIB-0771—Gloves, Surgical, Powder-free, OR Classic, White, Size 8.5″

NSN: 6515-00-NIB-0772—Gloves, Surgical, Powder-free, OR Classic, White, Size 9″

NPA: Bosma Industries for the Blind, Inc., Indianapolis, IN

Contracting Activity: Department of Veterans Affairs, National Acquisition Center, Hines, IL

Coverage: C-List for 100% of the requirement of the Department of Veterans Affairs as aggregated by the Department of Veterans Affairs National Acquisition Center, Hines, IL.

Deletions

Regulatory Flexibility Act Certification

I certify that the following action will not have a significant impact on a substantial number of small entities. The major factors considered for this certification were:

1. If approved, the action will not result in additional reporting, recordkeeping or other compliance requirements for small entities.

2. If approved, the action may result in authorizing small entities to furnish the services to the Government.

3. There are no known regulatory alternatives which would accomplish the objectives of the Javits-Wagner-O'Day Act (41 U.S.C. 8501-8506) in connection with the services proposed for deletion from the Procurement List.

End of Certification

The following services are proposed for deletion from the Procurement List:

Services

Service Type/Location: Janitorial/Custodial, FBI Information Technology Center, 1203 Nealis Avenue, Fort Monmouth, NJ

NPA: The Center for Vocational Rehabilitation, Inc., Eatontown, NJ

Contracting Activity: Dept of Just/Federal Bureau of Investigation, Washington, DC

Service Type/Location: Laundry Service, Stratton Medical Center, 113 Holland Ave, Albany, NY

NPA: Uncle Sam's House, Inc., Schenectady, NY

Contracting Activity: Department of Veterans Affairs, NAC, Hines, IL

Service Type/Location: Janitorial/Custodial, Social Security Administration District, 686 Nye Avenue—Office Building, Irvington, NJ

NPA: The First Occupational Center of New Jersey, Orange, NJ

Contracting Activity: GSA/Public Buildings Service, Newark, NJ

Service Type/Location: Janitorial/Custodial, USCG, Sandy Hook Detachment, 20 Crispin Road, Highlands, NJ

NPA: The Center for Vocational Rehabilitation, Inc., Eatontown, NJ

Contracting Activity: U.S. Coast Guard, Department of Homeland Security

Service Type/Location: Janitorial/Custodial, Buildings 1830, 1807, 2155, 4050 and 427, Fort Polk, LA

NPA: Vernon Sheltered Workshop, Inc., Leesville, LA

Contracting Activity: Dept. of the Army, W6QM Ft. Polk DOC, Fort Polk, LA

Barry S. Lineback,
Director, Business Operations.

[FR Doc. 2011-26019 Filed 10-6-11; 8:45 am]

BILLING CODE 6353-01-P